DEPARTMENT OF THE INTERIOR

Bureau of Land Management

43 CFR Parts 3600, 8200, and 8360

[WO-320-1430-PB-24 1A]

RIN 1004-AD29

Mineral Materials Disposal; Natural History Resource Management: Procedures; Visitor Services

AGENCY: Bureau of Land Management, Interior.

ACTION: Correcting amendments.

SUMMARY: This document corrects the Bureau of Land Management (BLM) final rule on mineral materials disposal that was published November 23, 2001 (66 FR 58892), by adding changes in several cross references to the regulations on mineral materials disposal that appear elsewhere in BLM regulations. These cross-reference amendments should have appeared in the original final rule. This document also corrects typographical and editorial errors in the 2001 final rule.

EFFECTIVE DATE: January 22, 2002.

FOR FURTHER INFORMATION CONTACT: Dr. Durga N. Rimal, Solid Minerals Group, at (202) 452-0350. Persons who use a telecommunications device for the deaf (TDD) may call the Federal Information Relay Service (FIRS) at 1-800-877-8339, 24 hours a day, 7 days a week.

SUPPLEMENTARY INFORMATION: The final rule published on November 23, 2001 (66 FR 58892-58910), removed part 3610 and subpart 3621 as part of its reorganization of the regulations on mineral materials disposal in 43 CFR part 3600, and made a conforming amendment in 43 CFR subpart 3809. The final rule should have amended the cross-references to part 3610 that appear in 43 CFR sections 8224.1 and 8365.1-5, and a cross-reference to subpart 3621 that appears in section 8365.1-5. Because the substance of the removed CFR units appears in other sections of revised part 3600, the cross-references should have been amended and not removed. These erroneous cross-references in the Code of Federal Regulations may prove to be misleading and need to be corrected. This document corrects this oversight.

We are also correcting editorial and typing errors in part 3600. In section 3601.51, which describes when BLM may inspect your mineral materials operation, we are correcting a conjunction from “and” to “or” in order to forestall a possible interpretation of the provision to require a BLM inspector planning to inspect, for example, mine conditions also to conduct unnecessary surveys and examine weight tickets, which was not our intent in preparing the final rule. Also, in section 3602.12(c), we are correcting the term “public lands laws” to read “public land laws”, the term as used in all other BLM regulations.

Finally, we are correcting a printing error in a CFR authority citation. The citation for the Land and Water Conservation Fund Act is 16 U.S.C. 460l-6a, which contains the italic letter “ell” in the section number. This appears in the authority citation for part 8360 as the numeral “one”, an error that this document corrects.

Dated: October 29, 2002.
Michael H. Schwartz,
Group Manager, Regulatory Affairs.

For these reasons, make the following correcting amendments in 43 CFR parts 3600, 8200, and 8360:

PART 3600—MINERALS MATERIALS DISPOSAL

1. The authority citation for part 3600 continues to read as follows:

Authority: 30 U.S.C. 601 et seq.; 43 U.S.C. 1201, 1732, 1733, 1740; Sec. 2, Act of September 28, 1962 (Pub. L. 87-713, 76 Stat. 652).

§ 3601.51 [Corrected]

2. In § 3601.51, amend paragraph (d) by removing the word “and” following the semicolon at the end of the paragraph, and adding in its place the word “or”.

§ 3602.12 [Corrected]

3. In § 3602.12, amend paragraph (c) by removing the phrase “public lands laws” from where it appears in the first sentence, and adding in its place the phrase “public land laws”.

Group 8200—Natural History Resource Management

PART 8200—PROCEDURES

4. The authority citation for part 8200 continues to read as follows:

Authority: 43 U.S.C. 1181 (a) and (e), 43 U.S.C. 1201, 43 U.S.C. 1701 et seq.

Subpart 8224—Fossil Forest Research Natural Area

§ 8224.1 [Corrected]

5. Correct § 8224.1 by removing at the end of paragraph (b) the term “§ 3610.1” and adding in its place the term “subpart 3602”.

PART 8360—VISITOR SERVICES

6. The authority citation for part 8360 is corrected to read as follows:

Authority: 43 U.S.C. 1701 et seq., 43 U.S.C. 315a, 16 U.S.C. 1281c, 16 U.S.C. 670 et seq., 16 U.S.C. 460l-6a, 16 U.S.C. 1241 et seq.

Subpart 8365—Rules of Conduct

§ 8365.1 [Corrected]

7. Correct § 8365.1-5 in paragraph (b)(4) by revising the reference to “subpart 3621 of this title” to read “subpart 3604”, and in paragraph (c) by revising the phrase “part 3610 or 5400 of this title” to read “part 3600 or 5400 of this chapter”.

[FR Doc. 02-28704 Filed 11-12-02; 8:45 am]

BILLING CODE 4310-84-P